DEPARTMENT OF EDUCATION

[Docket No.: ED-2024-SCC-0120]

Agency Information Collection Activities; Submission to the Office of Management and Budget for Review and Approval; Comment Request; Servicemembers Civil Relief Act (SCRA): Interest Rate Limitation Request

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before January 6, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-570-8414.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Servicemembers Civil Relief Act (SCRA): Interest Rate Limitation Request.

OMB Control Number: 1845-0135.

Type of Review: An extension without change of a currently approved ICR.

Respondents/Affected Public: Individuals and Households.

Total Estimated Number of Annual Responses: 200.

Total Estimated Number of Annual Burden Hours: 67.

Abstract: The Servicemembers Civil Relief Act (SCRA) provides that those on active-duty military service are entitled to have an interest rate in excess of 6% be capped at 6% for the duration of their qualifying military service. The Department is requesting an extension of the currently approved information collection. These Federal Family Education Loan (FFEL) Program and Direct Loan Program regulations have not changed. The regulations require a loan holder to match its database against the Department of Defense's Defense Manpower Data Center (DMDC) and automatically apply the interest rate limitation, as appropriate, to borrowers under the Servicemembers Civil Relief Act. The form in this collection would only be used in limited cases where the borrower is not found in the Defense Manpower Data Center, or does not have a copy of military orders, but still wishes to receive benefits under the SCRA.

Dated: December 3, 2024.
Kun Mullan,
PRA Coordinator, Strategic Collections and Clearance, Governance and Strategy Division, Office of Chief Data Officer, Office of Planning, Evaluation and Policy Development.

[FR Doc. 2024-28574 Filed 12-5-24; 8:45 am]

BILLING CODE 4000-01-P